DEPARTMENT OF ENERGY

Federal Energy Regulatory Commission

[Docket Nos. CP01-76-003 and CP01-77-003]

Cove Point LNG Limited Partnership; Notice of Compliance Filing

January 16, 2003.

Take notice that on January 13, 2003, Cove Point LNG Limited Partnership (Cove Point) tendered for filing as part of its FERC Gas Tariff, Second Revised Volume No. 1, the revised tariff sheets listed on Appendix A to the filing.

Cove Point states that its filing moves into effect, with certain appropriate adjustments, the pro forma tariff sheets approved by the Commission when it granted certificate authorizations to Cove Point to construct and operate new facilities and to modify and reactivate existing facilities at its liquefied natural gas (LNG) terminal in Calvert County, Maryland. Cove Point states that it anticipates that it will place its LNG import facilities in-service, and be ready to provide LNG tanker discharging service, on May 1, 2003. Cove Point proposes that the following tariff sheets become effective February 1, 2003:

Original Sheet No. 18C.01

Original Sheet No. 18D

Original Sheet No. 18F

Cove Point explains that these tariff sheets include advance notice requirements that must be in place by February 1, 2003, to allow service to begin on May 1, 2003. Cove Point proposes that the remainder of the filed tariff sheets included in Appendix A to the filing become effective on May 1, 2003.

Cove Point states that copies of the filing as been served on its customers and interested state commissions.

Any person desiring to protest said filing should file a protest with the Federal Energy Regulatory Commission, 888 First Street, NE., Washington, DC 20426, in accordance with section 385.211 of the Commission's rules and regulations. All such protests must be filed on or before January 23, 2003. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. 03-1494 Filed 1-22-03; 8:45 am]

BILLING CODE 6717-01-P